DEPARTMENT OF STATE

22 CFR Part 52

[Public Notice 8074]

RIN 1400-AD27

Repeal of Regulations on Marriages

AGENCY: Department of State.

ACTION: Final rule.

SUMMARY: In accordance with Executive Order 13563, the Bureau of Consular Affairs is repealing the regulations on marriages. The current regulations are outdated and duplicative of other authorities that detail procedures for authentications and documentation of life events. Further, in light of other authorities, it is unnecessary to specifically state in the regulations how consular authority is limited.

DATES: Effective Date: This rule is effective October 29, 2012.

FOR FURTHER INFORMATION CONTACT: Dara Morenoff, Office of Legal Affairs, Overseas Citizen Services, U.S. Department of State, 2201 C Street NW., SA-29, Washington, DC 20520, (202) 736-4995, morenoffdj@state.gov.

SUPPLEMENTARY INFORMATION: This rule removes Part 52 of the Code of Federal Regulations, which relates to the consular role in marriages. The Department is removing Part 52 because it is outdated and duplicative of other federal laws and regulations. For example:

—Section 52.1 provides that consular officers may not conduct marriages or serve as witnesses to a marriage. The law authorizing consular officers to act in this capacity, 22 U.S.C. 4192, was repealed in 1990.

—Section 52.2 relates to authentication of marriage documents. This section is unnecessary because the laws and regulations that apply to authentications in general also apply to marriage documents, and these functions are already covered in 22 CFR 92.41.

—Finally, Section 52.3 is unnecessary because there is no longer demand for official certificates with respect to marriage laws in foreign countries.

Regulatory Analysis and Notices

Administrative Procedure Act

This action is being taken as a final rule pursuant to the “good cause” provision of 5 U.S.C. 553(b). It is the position of the Department that notice and comment are not necessary in light of the fact that Part 52 is obsolete or duplicative of other authorities.

Regulatory Flexibility Act

It is hereby certified that the repeal of these regulations will not have a significant economic impact on a substantial number of small entities under the criteria of the Regulatory Flexibility Act, 5 U.S.C. 605(b), because the issues addressed are not of an economic nature. In addition, the repeal of this regulation does not have federalism implications under E.O. 13132.

Unfunded Mandates Reform Act

Section 202 of the Unfunded Mandates Reform Act of 1995, 2 U.S.C. 1532, generally requires agencies to prepare a statement before proposing any rule that may result in an annual expenditure of $100 million or more by State, local, or tribal governments, or by the private sector. This rule will not result in any such expenditure, nor will it significantly or uniquely affect small governments.

Executive Orders 12866 and 13563

The Department of State has reviewed this rule to ensure its consistency with the regulatory philosophy and principles set forth in Executive Order 12866 and has determined that the benefits of this regulation justify its costs. The Department does not consider this rule to be an economically significant action within the scope of section 3(f)(1) of the Executive Order since it is not likely to have an annual effect on the economy of $100 million or more or to adversely affect in a material way the economy, a sector of the economy, competition, jobs, the environment, public health or safety, or State, local or tribal governments or communities. The Department has considered this rule in light of Executive Order 13563, dated January 18, 2011, and affirms that this regulation is consistent with the guidance therein.

Federalism

This regulation will not have substantial direct effects on the States, on the relationship between the national government and the States, or the distribution of power and responsibilities among the various levels of government. Nor will the rule have federalism implications warranting the application of Executive Orders No. 12372 and No. 13132.

Civil Justice Reform

The Department has reviewed the regulations in light of sections 3(a) and 3(b)(2) of Executive Order No. 12988 to eliminate ambiguity, minimize litigation, establish clear legal standards, and reduce burden.

Consultations With Tribal Governments

The Department has determined that this rulemaking will not have Tribal implications, will not impose substantial direct compliance costs on Indian Tribal governments, and will not pre-empt Tribal law. Accordingly, the requirements of Executive Order 13175 do not apply to this rulemaking.

Paperwork Reduction Act

This rule does not impose information collection requirements under the provisions of the Paperwork Reduction Act, 44 U.S.C. Chapter 35.

List of Subjects in 22 CFR Part 52

Authentication of marriage, Marriage and divorce, Marriage laws.

Accordingly, under the authority of 22 U.S.C. 2651a, and because the statutory authority for Part 52 has been repealed, 22 CFR Chapter I, Subchapter F is amended by removing Part 52.

Dated: October 2, 2012.
Janice L. Jacobs,
Assistant Secretary, Bureau of Consular Affairs, Department of State.

[FR Doc. 2012-26554 Filed 10-26-12; 8:45 am]

BILLING CODE 4710-06-P